NUCLEAR REGULATORY COMMISSION

[Docket No. 50-289]

Amergen Energy Company, LLC; Notice of Withdrawal of Application for Amendment to Facility Operating License

The U.S. Nuclear Regulatory Commission (the Commission) has granted the request of AmerGen Energy Company, LLC (the licensee), to withdraw its August 14, 2001, application, as supplemented September 11, 2002, for a proposed amendment to Facility Operating License No. DPR-50 for the Three Mile Island Nuclear Station, Unit 1, located in Dauphin County, Pennsylvania.

The proposed amendment would have revised the Technical Specifications to eliminate the requirements associated with the independent onsite safety review group.

The Commission had previously issued a Notice of Consideration of Issuance of Amendment published in the Federal Register on March 5, 2002, (67 FR 10009). However, by letter dated April 30, 2003, the licensee withdrew the proposed change.

For further details with respect to this action, see the application for amendment dated August 14, 2001, as supplemented September 11, 2002, and the licensee's letter dated April 30, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated at Rockville, Maryland, this 28th day of May 2003.
For the Nuclear Regulatory Commission.
Timothy G. Colburn,
Senior Project Manager, Section 1, Project Directorate I, Division of Licensing Project Management, Office of Nuclear Reactor Regulation.

[FR Doc. 03-13867 Filed 6-2-03; 8:45 am]

BILLING CODE 7590-01-P